DEPARTMENT OF AGRICULTURE

Animal and Plant Health Inspection Service

[Docket No. APHIS-2015-0007]

Notice of Availability of a Treatment Evaluation Document; Methyl Bromide Fumigation of Figs

AGENCY: Animal and Plant Health Inspection Service, USDA.

ACTION: Notice of availability.

SUMMARY: We are advising the public that we have determined that it is necessary to immediately add to the Plant Protection and Quarantine Treatment Manual a new treatment schedule for methyl bromide fumigation of figs for external pests, including Chilean false red mite. We have prepared a treatment evaluation document that describes the new treatment schedule and explains why we have determined that it is effective at neutralizing these pests. We are making the treatment evaluation document available to the public for review and comment.

DATES: We will consider all comments that we receive on or before May 28, 2015.

ADDRESSES: You may submit comments by either of the following methods:

• Federal eRulemaking Portal: Go to http://www.regulations.gov/#!docketDetail;D=APHIS-2015-0007.

• Postal Mail/Commercial Delivery: Send your comment to Docket No. APHIS-2015-0007, Regulatory Analysis and Development, PPD, APHIS, Station 3A-03.8, 4700 River Road Unit 118, Riverdale, MD 20737-1238.

Supporting documents and any comments we receive on this docket may be viewed at http://www.regulations.gov/#!docketDetail;D=APHIS-2015-0007 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Inder P.S. Gadh, Senior Risk Manager-Treatments, PPQ, APHIS, 4700 River Road Unit 133, Riverdale, MD 20737; (301) 851-2018.

SUPPLEMENTARY INFORMATION: The regulations in 7 CFR chapter III are intended, among other things, to prevent the introduction or dissemination of plant pests and noxious weeds into or within the United States. Under the regulations, certain plants, fruits, vegetables, and other articles must be treated before they may be moved into the United States or interstate. The phytosanitary treatments regulations contained in 7 CFR part 305 (referred to below as the regulations) set out standards for treatments required in 7 CFR parts 301, 318, and 319 for fruits, vegetables, and other articles.

In § 305.2, paragraph (b) states that approved treatment schedules are set out in the Plant Protection and Quarantine (PPQ) Treatment Manual.¹ Section 305.3 sets out a process for adding, revising, or removing treatment schedules in the PPQ Treatment Manual. In that section, paragraph (b) sets out the process for adding, revising, or removing treatment schedules when there is an immediate need to make a change. The circumstances in which an immediate need exists are described in § 305.3(b)(1). They are:

¹ The Treatment Manual is available on the Internet at http://www.aphis.usda.gov/import_export/plants/manuals/ports/downloads/treatment.pdf or by contacting the Animal and Plant Health Inspection Service, Plant Protection and Quarantine, Manuals Unit, 92 Thomas Johnson Drive, Suite 200, Frederick, MD 21702.

• PPQ has determined that an approved treatment schedule is ineffective at neutralizing the targeted plant pest(s).

• PPQ has determined that, in order to neutralize the targeted plant pest(s), the treatment schedule must be administered using a different process than was previously used.

• PPQ has determined that a new treatment schedule is effective, based on efficacy data, and that ongoing trade in a commodity or commodities may be adversely impacted unless the new treatment schedule is approved for use.

• The use of a treatment schedule is no longer authorized by the U.S. Environmental Protection Agency or by any other Federal entity.

A treatment schedule currently listed in the PPQ Treatment Manual (T101-i-2-1) requires baby kiwi (Actinidia arguta), fig (Ficus carica), grape (Vitis spp.), and pomegranate (Punica granatum) to be treated with methyl bromide (MB) to prevent the introduction into the United States of external pests, including Chilean false red mite (Brevipalpus chilensis). The treatment as originally approved required the use of 1.5 lb ☐ 4.0 lb of MB gas per 1,000 ft³ for 2 hours at temperatures of 40 °F or above. However, in 2006, APHIS determined that this treatment was insufficient to mitigate the risk from the mite on grapes. Therefore, as an emergency measure, the treatment was amended to require a longer exposure time of up to 3 hours under tarpaulin or 2.5 hours in chamber. As an emergency measure, this action was done administratively and was not meant to be permanent.

On April 4, 2011, APHIS published a notice ² in the Federal Register (76 FR 18511-18512, Docket No. APHIS-2009-0097) that approved the use of this revised treatment to treat figs from Chile in order to meet U.S. entry requirements. Since publication of that notice, we have determined that figs have a higher sorption rate of the MB gas than other commodities. Therefore, in order to achieve 100 percent mortality of Chilean false red mite on figs, the figs must be exposed to a higher dose of MB.

² To view the notice and the comments we received, go to http://www.regulations.gov/#!docketDetail;D=APHIS-2009-0097.

In accordance with § 305.3(b)(2), we are providing notice that we have determined that it is necessary to add new treatment schedule T101-i-2-22, which provides for a MB treatment schedule for figs during an exposure period of 3 hours in a chamber at a dosage rate of 3.5 lbs gas/1,000 ft³ at a temperature between 50 °F and 59 °F, 3 lbs gas/1,000 ft³ at a temperature between 60 °F and 69 °F, and 2.5 lbs gas/1,000 ft³ at a temperature of 70 °F or above. Since the efficacy of new schedule T101-i-2-2 was not verified under tarpaulin, the new treatment schedule is applicable only in chambers. This action also amends treatment schedule T101-i-2-1 by removing figs from the schedule and making the revised treatment schedule permanent. Revised treatment schedule T101-i-2-1 will continue to be applicable both in chambers and under tarpaulin for grapes, baby kiwis, and pomegranates. APHIS' experience with successful importation of these commodities using the existing treatment schedule has provided sufficient evidence to prove the effectiveness of the treatment. In order to have minimum adverse impact on the ongoing trade of figs and using the immediate process as provided in § 305.3(b), these changes are effective immediately upon publication of this notice. The new treatment schedule will be listed in a separate section of the PPQ Treatment Manual, which will indicate that T101-i-2-22 was added through the immediate process described in paragraph (b) of § 305.3 and that it is subject to change or removal based on public comment.

The reasons for the addition of this treatment schedule are described in detail in a treatment evaluation document we have prepared to support this action. The treatment evaluation document may be viewed on the Regulations.gov Web site or in our reading room (see ADDRESSES above for instructions for accessing Regulations.gov and information on the location and hours of the reading room). You may request paper copies of the treatment evaluation document by calling or writing to the person listed under FOR FURTHER INFORMATION CONTACT. Please refer to the subject of the treatment evaluation document when requesting copies.

After reviewing the comments we receive, we will announce our decision regarding the new treatment schedule that is described in the treatment evaluation document in a subsequent notice, in accordance with paragraph (b)(3) of § 305.3. If we do not receive any comments, or the comments we receive do not change our determination that the treatment is effective, we will affirm the treatment schedule's addition to the PPQ Treatment Manual and make available a new version of the PPQ Treatment Manual in which T101-i-2-2 is listed in the main body of the PPQ Treatment Manual. If we receive comments that cause us to determine that T101-i-2-2 needs to be changed or removed, we will make available a new version of the PPQ Treatment Manual that reflects changes to or the removal of T101-i-2-2.

Authority: 7 U.S.C. 7701-7772 and 7781-7786; 21 U.S.C. 136 and 136a; 7 CFR 2.22, 2.80, and 371.3.

Done in Washington, DC, this 23rd day of February 2015.
Kevin Shea,
Administrator, Animal and Plant Health Inspection Service.

[FR Doc. 2015-04172 Filed 2-26-15; 8:45 am]

BILLING CODE 3410-34-P